DEPARTMENT OF TRANSPORTATION

Federal Aviation Administration

Approval of Noise Compatibility Program for Scottsdale Airport, Scottsdale, AZ

AGENCY: Federal Aviation Administration, DOT.

ACTION: Notice.

SUMMARY: The Federal Aviation Administration (FAA) announces its findings on the noise compatibility program submitted by the City of Scottsdale, Arizona under the provisions of Title I of the Aviation Safety and Noise Abatement Act, as amended, (Public Law 96-193) (hereinafter referred to as “the Act”) and 14 CFR part 150. These findings are made in recognition of the description of Federal and nonfederal responsibilities in Senate Report No. 96-52 (1980). On January 21, 2005, the FAA determined that the noise exposure maps submitted by the City of Scottsdale under Part 150 were in compliance with applicable requirements.

DATES: Effective Date: The effective date of the FAA's approval of the Noise Compatibility Program for Scottsdale Airport is May 30, 2006.

FOR FURTHER INFORMATION CONTACT: Michelle Simmons, Environmental Protection Specialist, Airports Division, Arizona Standards Section, AWP-623.4, Western-Pacific Region, Federal Aviation Administration, P.O. Box 92007, Los Angeles, California, 90009-2007. Telephone: 310/725-3614. Documents reflecting this FAA action may be reviewed in the Office of the Airports Division, 15000 Aviation Boulevard, Room 3012, Hawthorne, California, 90261.

SUPPLEMENTARY INFORMATION: This notice announces that the FAA has given its overall approval to the Noise Compatibility Program for Scottsdale Airport, effective May 30, 2006. Under section 104(a) of the Aviation Safety and Noise Abatement Act of 1979, as amended (herein after referred to as the “Act”) [recodified as 49 U.S.C. 47504], an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulation (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where federal funding is sought, requests for project grants must be submitted to the FAA Airports Division Office in Hawthorne, California.

The City of Scottsdale submitted to the FAA on October 13, 2004, the Noise Exposure Maps, descriptions, and other documentation produced during the noise compatibility planning study conducted from September 28, 1982 through October 13, 2004. The Scottsdale Airport Noise Exposure Maps were determined by FAA to be in compliance with applicable requirements on January 21, 2005. Notice of this determination was published in the Federal Register on February 7, 2005.

The Scottsdale Airport study contains a proposed noise compatibility program comprised of actions designed for phased implementation by airport management and adjacent jurisdictions from September 28, 1982 to beyond the year 2009). It was requested that the FAA evaluate and approve this material as a Noise Compatibility Program as described in 49 U.S.C. 47504 (formerly Section 104(b) of the Act). The FAA began its review of the program on October 13, 2004 and was required by a provision of the Act to approve or disapprove the program within 180 days (other than the use of new or modified flight procedures for noise control). Failure to approve or disapprove such program within the 180-day period shall be deemed to be an approval of such program.

The submitted program contained thirty (30) proposed actions for noise abatement, land use planning and program management on and off the airport. The FAA completed its review and determined that the procedural and substantive requirements of the Act and FAR Part 150 have been satisfied. The overall program was approved by the Acting Associate Administrator for Airports, effective May 30, 2006.

Outright approval was granted for twenty-eight (28) of the thirty (30) specific program measures and (1) program element was approved in part and disapproved in part. The approved measures included such items as: Continued Informal Preferential Use of Runway 3; Continuation to encourage Stage 2 Aircraft to use Runway 21 for landings and Runway 3 for takeoffs; Continuation to discourage right downwind and right base pattern entry, long straight-in approaches, and right turn-outs prior to reaching the airport boundary for aircraft using Runway 3; Continuation to encourage right turns as soon as practical and discourage straight-out and left turns on departure from Runway 21. Continuation to prohibit stop-and-go operations, intersections take-offs, formations, and simulated single engine take-offs and training go arounds by multi-engine aircraft on Runway 21; Continuation to discourage descents below 2,500 feet mean sea level (MSL) for practice instrument approaches; Continuation to encourage National Business Aviation Association (NBAA) standard or manufacturer's comparable noise abatement procedures; Continuation to prohibit touch-and-go operations between 9:30 p.m. and 6 a.m.; Continuation to prohibit maintenance run-up operations between 10 p.m. and 7 a.m.; Continuation to encourage use of AOPA Noise Awareness Steps by light single-engine aircraft; Request Air Traffic Control to coordinate on any new approach, departure, or routing procedures when ASR-11 radar installation is complete; Relocate the existing run-up area from the approach end of Runway 21 to the proposed site in the central portion of the airport; Inform transient helicopter pilots of the noise abatement flights paths; Change Phoenix Sectional Aeronautical Chart to depict additional populated places; Within their respective General Plans, the cities of Scottsdale and Phoenix should maintain the compatibility planned areas within the 55 DNL contour; The cities of Scottsdale and Phoenix should maintain the compatibly-zoned areas within the project study area; The City of Scottsdale should consider rezoning the parcel located directly north of the airport, within the 65 DNL noise contour, to a compatible land use. The parcel is currently utilized as a golf course. The cities of Scottsdale and Phoenix should enact Project Review Guidelines for those areas impacted by Airport operations; The cities of Scottsdale and Phoenix should adopt the overlay zones contained within the proposed Project Review Guidelines; If the Project Review Guidelines and Overlay Zoning Alternatives are not implemented, the City of Scottsdale should consider amending the subdivision regulations to require the issuance of navigation easements and fair disclosure notices for the areas contained within the AC-1, AC-2, and AC-3 of the overlay zoning; The City of Scottsdale should consider amending its current building codes to incorporate prescriptive noise standards; Should the Project Review Guidelines alternatives not be implemented, the City of Scottsdale should consider incorporating the 2009 noise contours into its general plan to allow for an additional level of fair disclosure; The City of Phoenix should consider rezoning the areas located north of the Central Arizona Project (CAP) canal, which are currently zoned for residential land, uses and planned industrial or commercial land uses; Update Noise Exposure Maps and Noise Compatibility Program; Monitor implementation of the updated Part 150 Noise Compatibility Program; Continue noise complaint tracking program; Continue and expand airport signage program; and Airport Pilot and Community Outreach Program. Approval was not granted to three (3) proposed program elements and one (1) program element was disapproved in part. The disapproved measures included such items as: Encourage the use of published approach patterns for Runway 21; The City will encourage FAA to chart visual flight procedures to provide pilots with minimum safe flying altitudes and paths on approach; and Construction of a run-up enclosure. These determinations are set forth in detail in the Record of Approval signed by the Acting Associate Administrator for Airports, May 30, 2006. The Record of Approval, as well as other evaluation materials and the documents comprising the submittal, are available for review at the FAA office listed above and at the administrative offices of the City of Scottsdale. The Record of Approval also will be available on-line at: http://www.faa.gov/arp/environmental/14cfr150/index14.cfm.

Issued in Hawthorne, California on June 9, 2006.
George E. Aiken,
Acting Manager, Airports Division, Western-Pacific Region, AWP-600.

[FR Doc. 06-5515 Filed 6-16-06; 8:45 am]

BILLING CODE 4910-13-M